SURFACE TRANSPORTATION BOARD

[Docket No. FD 36884]

CWW, LLC—Lease and Operation Exemption—Port of Walla Walla, Wash.

CWW, LLC d/b/a Columbia-Walla Walla Railway (CWW), a Class III railroad, has filed a verified notice of exemption pursuant to 49 CFR 1150.41 to lease from the Port of Walla Walla (the Port) and operate approximately 900 feet of track, from the clearance point of a main line switch located at milepost 211.81 of Union Pacific Railroad Company's Ayer Subdivision to a point roughly 900 feet north and east, in Walla Walla County, Wash. (the Line). CWW indicates that the Line does not have mileposts.

According to the verified notice, CWW and the Port have entered into an agreement under which CWW will lease and operate the Line as a common carrier. CWW certifies that the agreement contains no clause or provision that may limit or prohibit interchange with any third-party connecting carrier. According to the verified notice, the agreement will take effect as of the effective date of this notice.

CWW certifies that its annual operating revenue does not and will not as a result of the subject transaction exceed the threshold of a Class I or Class II rail carrier.

The transaction may be consummated on or after October 23, 2025, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than October 16, 2025 (at least seven days before the exemption becomes effective).

All pleadings, referring to Docket No. FD 36884, must be filed with the Surface Transportation Board either via e-filing on the Board's website or in writing addressed to 395 E Street SW, Washington, DC 20423-0001. In addition, a copy of each pleading must be served on CWW's representative, Stephen J. Foland, Fletcher & Sippel LLC, 29 North Wacker Drive, Suite 800, Chicago, IL 60606.

According to CWW, this action is categorically excluded from environmental review under 49 CFR 1105.6(c) and from historic reporting requirements under 49 CFR 1105.8(b).

Board decisions and notices are available at www.stb.gov.

Decided: September 26, 2025.
By the Board, Anika S. Cooper, Chief Counsel, Office of Chief Counsel.
Kenyatta Clay,
Clearance Clerk.

[FR Doc. 2025-18981 Filed 9-29-25; 8:45 am]

BILLING CODE 4915-01-P